DEPARTMENT OF LABOR

Employment and Training Administration

[TA-W-54,132]

National Textiles, Eden, NC; Notice of Termination of Investigation

Pursuant to section 221 of the Trade Act of 1974, as amended, an investigation was initiated on February 2, 2004 in response to a petition filed on behalf of workers at National Textiles, Eden, North Carolina.

On December 15, 2003, the workers of the subject firm were denied eligibility to apply for worker adjustment assistance, under petition number TA-W-53,487. The Department has received a request for reconsideration of that denial. The Department will provide a copy of this petition to be included in the review of the request for reconsideration of TA-W-53,487.

Further investigation of TA-W-54,132 would duplicate investigation efforts, and this investigation is terminated.

Signed at Washington, DC, this 25th day of February, 2004.
Linda G. Poole,
Certifying Officer, Division of Trade Adjustment Assistance.

[FR Doc. E4-573 Filed 3-15-04; 8:45 am]

BILLING CODE 4510-13-P